DEPARTMENT OF TRANSPORTATION

Federal Aviation Administration

14 CFR Part 39

[Docket No. 2003-NM-187-AD; Amendment 39-13688; AD 2004-13-06]

RIN 2120-AA64

Airworthiness Directives; Airbus Model A319 and A320 Series Airplanes

AGENCY: Federal Aviation Administration, DOT.

ACTION: Final rule.

SUMMARY: This amendment adopts a new airworthiness directive (AD), applicable to certain Airbus Model A319 and A320 series airplanes, that requires repetitive detailed inspections to detect cracks in the keel beam side panels, and repair if necessary. Accomplishment of the repair ends the repetitive inspections for that repaired area. This action is necessary to detect and correct fatigue cracks on the side panels of the keel beams, which could result in reduced structural integrity of the airplane. This action is intended to address the identified unsafe condition.

DATES: Effective August 3, 2004.

The incorporation by reference of certain publications listed in the regulations is approved by the Director of the Federal Register as of August 3, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: A proposal to amend part 39 of the Federal Aviation Regulations (14 CFR part 39) to include an airworthiness directive (AD) that is applicable to certain Airbus Model A319 and A320 series airplanes was published in the Federal Register on April 1, 2004 (69 FR 17103). That action proposed to require repetitive detailed inspections to detect cracks in the keel beam side panels, and repair if necessary. Accomplishment of the repair ends the repetitive inspections for that repaired area.

Comments

Interested persons have been afforded an opportunity to participate in the making of this amendment. Due consideration has been given to the comments received.

Two commenters request that the notice of proposed rulemaking action (NPRM) be revised to reference the latest service bulletin (i.e., Airbus Service Bulletin A320-53-1060, Revision 01, dated April 2, 2004). The commenters state that Revision 01 only changes the compliance to mandatory.

The FAA agrees. Since issuance of the NPRM, the Direction Générale de l'Aviation Civile (DGAC), which is the airworthiness authority for France, classified Revision 01 of Airbus Service Bulletin A320-53-1060 as mandatory. No additional work is required for airplanes modified by the original issue of the service bulletin (referenced in the NPRM as the appropriate source of service information). Therefore, we have revised the final rule to reference Revision 01 of the service bulletin as the appropriate source of service information for accomplishing the required actions and added a new paragraph to give credit to operators that accomplished the original issue of the service bulletin before the effective date of this AD.

Conclusion

After careful review of the available data, including the comment noted above, we have determined that air safety and the public interest require the adoption of the rule with the changes described previously. We have determined that these changes will neither increase the economic burden on any operator nor increase the scope of the AD.

Cost Impact

We estimates that 400 Model A319 and A320 series airplanes of U.S. registry will be affected by this AD, that it will take approximately 13 work hours per airplane to accomplish the required inspection, and that the average labor rate is $65 per work hour. Based on these figures, the cost impact of the AD on U.S. operators is estimated to be $338,000, or $845 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-13-06 Airbus: Amendment 39-13688. Docket 2003-NM-187-AD.

Applicability: Model A319 and A320 series airplanes, certificated in any category; except those airplanes on which Airbus Modification 30355 has been incorporated in production.

Compliance: Required as indicated, unless accomplished previously.

To detect and correct fatigue cracks on the side panels of the keel beams, which could result in reduced structural integrity of the airplane, accomplish the following:

Service Bulletin

(a) The term “service bulletin,” as used in this AD, means the Accomplishment Instructions of Airbus Service Bulletin A320-53-1060, Revision 01, dated April 2, 2004.

Initial Inspection

(b) Perform a detailed inspection to detect cracks in the keel beam side panels, in accordance with the service bulletin, at the time specified in either paragraph (b)(1) or (b)(2) of this AD, as applicable.

Note 1: For the purposes of this AD, a detailed inspection is defined as: “An intensive visual examination of a specific structural area, system, installation, or assembly to detect damage, failure, or irregularity. Available lighting is normally supplemented with a direct source of good lighting at intensity deemed appropriate by the inspector. Inspection aids such as a mirror, magnifying lenses, etc., may be used. Surface cleaning and elaborate access procedures may be required.”

(1) For airplanes that have not been inspected per Maintenance Review Board (MRB) task 53-31-42: Inspect at the later of the times specified in paragraph (b)(1)(i) and (b)(1)(ii) of this AD.

(i) Prior to the accumulation of 24,200 total flight cycles, or 48,400 total flight hours, whichever occurs first.

(ii) Within 3,500 flight cycles after the effective date of this AD.

(2) For airplanes that have been inspected per MRB task 53-31-42: Inspect at the later of the times specified in paragraph (b)(2)(i) and (b)(2)(ii) of this AD.

(i) Within 4,300 flight cycles or 9,600 flight hours after the last inspection per MRB task 53-31-42, whichever occurs first.

(ii) Within 3,500 flight cycles after the effective date of this AD.

Repetitive Inspections

(c) Repeat the detailed inspection required by paragraph (b) of this AD at intervals not to exceed 4,300 flight cycles or 9,600 flight hours, whichever occurs first.

Corrective Actions

(d) If any crack is found in “Area A” during any inspection required by this AD, before further flight, repair the affected area in accordance with the service bulletin. Once a repair has been accomplished to “Area A,” the repetitive inspections of “Area A” required by paragraphs (b) and (c) of this AD are no longer required for that side of the keel beam.

(e) If any crack is found in “Area B” during any inspection required by this AD, before further flight, repair the affected structure per a method approved by either the Manager, International Branch, ANM-116, FAA, Transport Airplane Directorate; or the Direction Generale De L'Aviation Civile (DGAC) (or its delegated agent).

Credit for Accomplishing Original Issue of Service Bulletin

(f) Actions accomplished before the effective date of this AD per Airbus Service Bulletin A320-53-1060, dated June 19, 2002, are acceptable for compliance with the applicable requirements of this AD.

Alternative Methods of Compliance

(g) In accordance with 14 CFR 39.19, the Manager, International Branch, FAA, is authorized to approve alternative methods of compliance (AMOCs) for this AD.

Incorporation by Reference

(h) Unless otherwise specified in this AD, the actions shall be done in accordance with Airbus Service Bulletin A320-53-1060, Revision 01, dated April 2, 2004. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 2: The subject of this AD is addressed in French airworthiness directive 2003-146(B), dated April 16, 2003 (a correction was issued May 14, 2003).

Effective Date

(i) This amendment becomes effective on August 3, 2004.

Issued in Renton, Washington, on June 16, 2004.
Ali Bahrami,
Acting Manager, Transport Airplane Directorate, Aircraft Certification Service.

[FR Doc. 04-14530 Filed 6-28-04; 8:45 am]

BILLING CODE 4910-13-P